DEPARTMENT OF COMMERCE

International Trade Administration

[A-570-156]

Aluminum Lithographic Printing Plates From the People's Republic of China: Final Affirmative Determination of Sales at Less-Than-Fair-Value and Final Affirmative Determination of Critical Circumstances

AGENCY: Enforcement and Compliance, International Trade Administration, Department of Commerce.

SUMMARY: The U.S. Department of Commerce (Commerce) determines that aluminum lithographic printing plates (printing plates) from the People's Republic of China (China) are being, or are likely to be, sold in the United States at less than fair value (LTFV). The period of investigation (POI) is January 1, 2023, to June 30, 2023.

DATES: Applicable September 27, 2024.

FOR FURTHER INFORMATION CONTACT: Benito Ballesteros, AD/CVD Operations, Office IX, Enforcement and Compliance, International Trade Administration, U.S. Department of Commerce, 1401 Constitution Avenue NW, Washington, DC 20230; telephone: (202) 482-7425.

SUPPLEMENTARY INFORMATION:

Background

On May 1, 2024, Commerce published the Preliminary Determination in this investigation and invited interested parties to comment.¹ On June 3, 2024, in response to significant ministerial error allegations raised by Eastman Kodak Company (the petitioner), Commerce amended the Preliminary Determination.² On July 22, 2024, Commerce tolled certain deadlines in this administrative proceeding by seven days.³ The deadline for the final determination is now September 20, 2024.

¹ See Aluminum Lithographic Printing Plates from the People's Republic of China: Preliminary Affirmative Determination of Sales at Less Than Fair Value, Preliminary Affirmative Determination of Critical Circumstances, and Postponement of Final Determination and Extension of Provisional Measure, 89 FR 35062 (May 1, 2024) (Preliminary Determination), and accompanying Preliminary Determination Memorandum (PDM).

² See Aluminum Lithographic Printing Plates from the People's Republic of China: Amended Preliminary Determination of the Less-Than-Fair-Value Investigation, 89 FR 47516 (June 3, 2024) (Amended Preliminary Determination), and accompanying Memorandum, “Allegations of Ministerial Errors in the Preliminary Determination,” dated May 28, 2024.

³ See Memorandum, “Tolling of Deadlines for Antidumping and Countervailing Duty Proceedings,” dated July 22, 2024.

For a complete description of the events that occurred since the Preliminary Determination, see the Issues and Decision Memorandum.⁴ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁴ See Memorandum, “Decision Memorandum for the Final Affirmative Determination in the Less-Than-Fair-Value Investigation of Aluminum Lithographic Printing Plates from the People's Republic of China,” dated concurrently with, and hereby adopted by, this notice (Issues and Decision Memorandum).

Scope of the Investigation

The merchandise covered by the scope of this investigation is printing plates from China. For a complete description of the scope of this investigation, see Appendix I.

Scope Comments

We received no comments from interested parties on the scope of the investigation as it appeared in the Preliminary Determination. Therefore, we made no changes to the scope of the investigation.

Final Affirmative Determination of Critical Circumstances

Commerce preliminarily determined, in accordance with section 733(e)(1) of the Tariff Act of 1930, as amended (the Act), and 19 CFR 351.206(c)(1), that critical circumstances exist with respect to imports of printing plates exported by Fujifilm Printing Plate (China) Co., Ltd. (Fujifilm) and the China-wide entity.⁵ For the final determination, pursuant to section 735(a)(3)(B) of the Act and 19 CFR 351.206, we continue to find that critical circumstances exist for Fujifilm and the China-wide entity.⁶

⁵ See Preliminary Determination, 89 FR at 35062-63.

⁶ See Preliminary Determination PDM at 26-28.

Verification

As provided in section 782(i) of the Act, in May and June 2024, respectively, Commerce conducted on-site verifications of the data reported by Fujifilm and its U.S. affiliate, Fujifilm North America Corporation, using standard verification procedures.⁷

⁷ See Memoranda, “Verification of the Questionnaire Responses of Fujifilm Printing Plate (China) Co., Ltd.,” dated July 9, 2024; and “Verification of the U.S. Sales Response of Fujifilm North America Corporation,” dated July 15, 2024.

Analysis of Comments Received

The issues raised in the case and rebuttal briefs by the parties in this investigation are discussed in the Issues and Decision Memorandum. For a list of the issues raised by interested parties and addressed in the Issues and Decision Memorandum, see Appendix II.

Changes Since the Amended Preliminary Determination

Based on our review and analysis of the information at verification and comments received from interested parties, we made certain changes to the margin calculations for Fujifilm. For a discussion of these changes, see the Issues and Decision Memorandum.

Application of Total Adverse Facts Available With Respect to the China-Wide Entity

Consistent with the Preliminary Determination, Commerce continues to find, pursuant to sections 776(a)(1) and (a)(2)(A)-(C) of the Act, that the use of facts available is warranted in determining the rate of the China-wide entity.⁸ Furthermore, we continue to find that an adverse inference is warranted in selecting from the facts otherwise available, pursuant to section 776(b) of the Act and 19 CFR 351.308(a), because the China-wide entity failed to cooperate by not acting to the best of its ability to comply with Commerce's requests for information.⁹ As adverse facts available (AFA), we continue to apply the highest individual margin calculated for Fujifilm (i.e., 317.44 percent) because it is a rate derived from information submitted on the record and achieves the goal of inducing future cooperation by the uncooperative respondent.¹⁰

⁸ See Preliminary Determination PDM at 12.

⁹ Id.

¹⁰ See Amended Preliminary Determination, 89 FR at 47516-17.

Combination Rates

Consistent with the Initiation Notice,¹¹ the Preliminary Determination, and Policy Bulletin 05.1,¹² Commerce calculated a combination rate for Fujifilm, which is the sole respondent eligible for a separate rate in this investigation.

¹¹ See Aluminum Lithographic Printing Plates from the People's Republic of China and Japan: Initiation of Less-Than-Fair-Value Investigations, 88 FR 73316, 73320 (October 25, 2023) (Initiation Notice).

¹² See Enforcement and Compliance's Policy Bulletin No. 05.1, regarding, “Separate-Rates Practice and Application of Combination Rates in Antidumping Investigations involving Non-Market Economy Countries,” dated April 5, 2005 (Policy Bulletin 05.1), available on Commerce's website at https://enforcement.trade.gov/policy/bull05-1.pdf.

Final Determination

The final estimated weighted-average dumping margins are listed below:

¹³ This rate is based on AFA.

Producer | Exporter | Weighted- average dumping margin (percent) | Cash deposit rate (adjusted for subsidy offset) (percent)
Fujifilm Printing Plate (China) Co., Ltd | Fujifilm Printing Plate (China) Co., Ltd | 115.85 | 115.84
China-wide Entity ¹³ |  | 317.44 | 317.43

Disclosure

Commerce intends to disclose the calculations and analysis performed in this final determination to interested parties within five days of any public announcement or, if there is no public announcement, within five days of the date of publication of this notice, in accordance with 19 CFR 351.224(b).

Continuation of Suspension of Liquidation

In accordance with section 735(c)(4) of the Act, because Commerce continues to find that critical circumstances exist for Fujifilm and the China-wide entity, we will instruct U.S. Customs and Border Protection (CBP) to continue to suspend liquidation of subject merchandise, as described in Appendix I of this notice, entered, or withdrawn from warehouse, for consumption, on or after February 1, 2024, which is 90 days prior to the date of publication of the Preliminary Determination.

To determine the cash deposit rate, Commerce normally adjusts the estimated weighted-average dumping margin by the amount of domestic subsidy pass-through and export subsidies determined in a companion countervailing duty (CVD) proceeding when CVD provisional measures are in effect. Accordingly, where Commerce makes an affirmative determination for domestic subsidy pass-through or export subsidies, Commerce offsets the calculated estimated weighted-average dumping margin by the appropriate rates. However, suspension of liquidation of provisional measures in the companion CVD investigation has been discontinued; therefore, we are not instructing CBP to collect cash deposits based upon the adjusted estimated weighted-average dumping margin for those export subsidies at this time.¹⁴

¹⁴ See Aluminum Lithographic Printing Plates from the People's Republic of China: Preliminary Affirmative Countervailing Duty Determination, and Alignment of Final Determination With Final Antidumping Duty Determination, 89 FR 15134, (March 1, 2024); see also section 703(d) of the Act, which states that the provisional measures may not be in effect for more than four months, which in the companion CVD case is 120 days after the publication of the preliminary determination, or June 29, 2024.

Pursuant to section 735(c)(1)(B)(ii) of the Act and 19 CFR 351.210(d), we will instruct CBP to require a cash deposit for such entries of merchandise equal to the amount by which the normal value exceeds the U.S. price as follows: (1) for the producer/exporter combination listed in the table above, the cash deposit rate is equal to the estimated weighted-average dumping margin listed for that combination in the table; (2) for all combinations of Chinese producers/exporters of subject merchandise that have not established eligibility for their own separate rates, the cash deposit rate will be equal to the estimated weighted-average dumping margin established for the China-wide entity; and (3) for all third country exporters of subject merchandise not listed in the table above, the cash deposit rate is the cash deposit rate applicable to the Chinese producer/exporter combination (or China-wide entity) that supplied that third-country exporter. These suspension of liquidation instructions will remain in effect until further notice.

U.S. International Trade Commission Notification

In accordance with section 735(d) of the Act, we will notify the U.S. International Trade Commission (ITC) of our final affirmative determination of sales at LTFV. Because the final determination in this investigation is affirmative, in accordance with section 735(b)(2) of the Act, the ITC will make its final determination as to whether the domestic industry in the United States is materially injured or threatened with material injury by reason of imports of printing plates from China no later than 45 days after our final determination. If the ITC determines that such material injury or threat of material injury does not exist, this proceeding will be terminated, all cash deposits posted will be refunded, and suspension of liquidation will be lifted. If the ITC determines that such injury does exist, Commerce will issue an antidumping duty order directing CBP to assess, upon further instruction by Commerce, antidumping duties on all imports of the subject merchandise entered or withdrawn from warehouse for consumption on or after the effective date of the suspension of liquidation, as discussed in the “Continuation of Suspension of Liquidation” section.

Administrative Protective Order

This notice also serves as a final reminder to parties subject to an administrative protective order (APO) of their responsibility concerning the return or destruction of proprietary information disclosed under APO in accordance with 19 CFR 351.305(a)(3). Timely written notification of the return or destruction of APO materials, or conversion to judicial protective order, is hereby requested. Failure to comply with the regulations and terms of an APO is a violation which is subject to sanction.

Notification to Interested Parties

This determination is issued and published in accordance with sections 735(d) and 777(i)(1) of the Act and 19 CFR 351.210(c).

Dated: September 20, 2024.
Ryan Majerus,
Deputy Assistant Secretary for Policy and Negotiations, performing the non-exclusive functions and duties of the Assistant Secretary for Enforcement and Compliance.

Appendix I

Scope of the Investigation

The merchandise covered by this investigation is aluminum lithographic printing plates. Aluminum lithographic printing plates consist of a flat substrate containing at least 90 percent Aluminum. The aluminum-containing substrate is generally treated using a mechanical, electrochemical, or chemical graining process, which is followed by one or more anodizing treatments that form a hydrophilic layer on the aluminum-containing substrate. An image-recording, oleophilic layer that is sensitive to light, including but not limited to ultra-violet, visible, or infrared, is dispersed in a polymeric binder material that is applied on top of the hydrophilic layer, generally on one side of the aluminum lithographic printing plate. The oleophilic light-sensitive layer is capable of capturing an image that is transferred onto the plate by either light or heat. The image applied to an aluminum lithographic printing plate facilitates the production of newspapers, magazines, books, yearbooks, coupons, packaging, and other printed materials through an offset printing process, where an aluminum lithographic printing plate facilitates the transfer of an image onto the printed media. Aluminum lithographic printing plates within the scope of this investigation include all aluminum lithographic printing plates, irrespective of the dimensions or thickness of the underlying aluminum substrate, whether the plate requires processing after an image is applied to the plate, whether the plate is ready to be mounted to a press and used in printing operations immediately after an image is applied to the plate, or whether the plate has been exposed to light or heat to create an image on the plate or remains unexposed and is free of any image.

Subject merchandise also includes aluminum lithographic printing plates produced from an aluminum sheet coil that has been coated with a light-sensitive image-recording layer in a subject country and that is subsequently unwound and cut to the final dimensions to produce a finished plate in a third country (including the United States), or exposed to light or heat to create an image on the plate in a third country (including in a foreign trade zone within the United States).

Excluded from the scope of this investigation are lithographic printing plates manufactured using a substrate produced from a material other than aluminum, such as rubber or plastic.

Aluminum lithographic printing plates are currently classifiable under Harmonized Tariff of the United States (HTSUS) subheadings 3701.30.0000 and 3701.99.6060. Further, merchandise that falls within the scope of this investigation may also be entered into the United States under HTSUS subheadings 3701.99.3000 and 8442.50.1000. Although the HTSUS subheadings are provided for convenience and customs purposes, the written description of the scope of this investigation is dispositive.

Appendix II

List of Topics Discussed in the Issues and Decision Memorandum

I. Summary

II. Background

III. Changes Since the Amended Preliminary Determination

IV. Discussion of the Issues

Comment 1: Whether To Use Fujifilm's Correction to U.S. Inland Freight Expenses Submitted at Verification

Comment 2: Whether To Average Descartes and Maersk Ocean Freight Data in Calculating the Surrogate Value for Ocean Freight

Comment 3: Whether To Revise the U.S. Truck Surrogate Value Inflation Factor

Comment 4: Whether To Continue Using United Parcel Service (UPS) and Federal Express (FedEx) Air Freight Data

Comment 5: Whether To Adjust the Surrogate Financial Ratios

Comment 6: Whether To Recalculate the Processor-Related Costs (i.e., INDIRS2U)

Comment 7: Whether To Recalculate U.S. Repacking Expenses

Comment 8: Whether To Recalculate U.S. Adjustments Based on Entered Value

Comment 9: Whether To Use Fujifilm's Reported Aluminum Coil Consumption

Comment 10: Whether To Grant Fujifilm a Double Remedies Adjustment

V. Recommendation

[FR Doc. 2024-22155 Filed 9-26-24; 8:45 am]

BILLING CODE 3510-DS-P